DEPARTMENT OF TRANSPORTATION

Office of the Secretary

14 CFR Part 314

RIN 2105-AD94

Employee Protection Program; Removal

AGENCY: Office of the Secretary (OST), Department of Transportation (DOT).

ACTION: Final rule.

SUMMARY: This rule removes the procedural regulations of the Department of Transportation Employee Protection Program. These regulations are removed because the underlying program was repealed by an act of Congress and the program has been terminated.

DATES: Effective Date: February 4, 2010.

FOR FURTHER INFORMATION CONTACT: Bernard Diederich, Office of the General Counsel, 1200 New Jersey Ave., SE., Washington, DC 20590, (202) 366-9159.

SUPPLEMENTARY INFORMATION: The Congress in 1978 established the Employee Protection Program, to be administered by the U.S. Department of Transportation. Section 43 of the Airline Deregulation Act of 1978, Public Law 95-504, 92 Stat. 1750, codified at 49 U.S.C. App. 1552 (1991).

The Program was intended to compensate covered airline employees who might have lost their employment or had their compensation reduced as a result of a bankruptcy or major employment contraction, if the major cause of the bankruptcy or major contraction was the change in regulatory structure provided by the Airline Deregulation Act. DOT established regulations to support the Program, based on the regulations previously established by the Civil Aeronautics Board, which previously handled the Program. 45 FR 49,291 (July 24, 1980); 47 FR 9,744 (March 5, 1982); 50 FR 2,426 (January 16, 1985). The regulations were codified at 14 CFR Part 314. DOT conducted hearings under the regulations and issued a final DOT order with findings in initial selected cases, finding no basis to support any compensation under the Program. DOT Order 91-9-20, dated September 18, 1991, in DOT dockets 40201, 39783, 38978, 38883, and 38571.

While appeals and processing of the Program were underway, the Program was repealed by Act of Congress, effective August 7, 1998. Section 199(a)(6) of the Workforce Investment Act of 1998, Public Law 105-220, 112 Stat. 1059. The Program was codified as subchapter I of chapter 421 of title 49, United States Code, which was repealed at subsection (a)(6) of the Workforce Investment Act. See also 144 Cong. Rec. H6689 (daily ed. July 29, 1998).

Accordingly, DOT has halted all action in the Program and is removing the Program regulations. DOT lacks a statutory basis for any further action on the Program.

Regulatory Analyses and Notices

A. Administrative Procedure Act

The Department has determined that this rule may be issued without a prior opportunity for notice and comment because providing prior notice and comment would be unnecessary, impracticable, or contrary to the public interest. The Program was repealed by an Act of Congress in 1998, thus there would not be any harm to any identifiable beneficiary by repealing the rule. The Department has ceased all actions under the regulations. Thus, this rule should be rescinded. For the same reasons, the Department finds that there is good cause to make the rule effective immediately.

B. Executive Order 12866 and Regulatory Flexibility Act

The Department has determined that this action is not considered a significant regulatory action for purposes of Executive Order 12866 or the Department's regulatory policies and procedures. This rule is being adopted solely to rescind a rule that is no longer necessary due to the Congress repealing the program's statutory authority. Given the absence of compliance costs to anyone, I certify that final rule does not have a significant economic impact on a substantial number of small entities.

C. Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

D. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

E. Paperwork Reduction Act

This rule contains no information collection requirements under the Paperwork Reduction Act of 1995 (44 U.S.C. 3501-3520).

F. Unfunded Mandates Reform Act

The Department of Transportation has determined that the requirements of Title II of the Unfunded Mandates Reform Act of 1995 do not apply to this rulemaking.

List of Subjects in 14 CFR Part 314

Administrative practice and procedure, Air transportation, Aviation safety, Hazardous materials transportation, Investigations, Law enforcement, Penalties.

Accordingly, under the authority of Section 199(a)(6) of the Workforce Investment Act of 1998, Public Law 105-220, 112 Stat. 1059, the Department of Transportation amends 14 CFR chapter 2 by removing part 314:

PART 314—[REMOVED AND RESERVED]

Issued in Washington, DC, on January 27, 2010.
Susan Kurland,
Assistant Secretary for Aviation and International Affairs.

[FR Doc. 2010-2281 Filed 2-3-10; 8:45 am]

BILLING CODE 4910-9X-P